DEPARTMENT OF TRANSPORTATION

Federal Aviation Administration

14 CFR Part 71

[Docket No. FAA-2008-0072; Airspace Docket No. 08-ASO-03]

Establishment of Class E Airspace; Lady Lake, FL

AGENCY: Federal Aviation Administration (FAA), DOT.

ACTION: Direct final rule, request for comments; withdrawal.

SUMMARY: This action withdraws the direct final rule published in the Federal Register March 21, 2008 establishing Class E Airspace at Lady Lake, FL (73 FR 15060), Docket No. FAA-2008-0072. This Direct final rule is being withdrawn in recognition of existing Class E Airspace at Lady Lake, FL that adequately supports the new Area Navigation (RNAV) Global Positioning System (GPS) Special Instrument Approach Procedure (IAP) that has been developed for medical flight operations into the Village of Homewood Lady Lake Hospital.

DATES: Effective Date: June 12, 2008.

FOR FURTHER INFORMATION CONTACT: Melinda Giddens, System Support Group, Eastern Service Center, Federal Aviation Administration, P.O. Box 20636, Atlanta, Georgia 30320; telephone (404) 305-5610; fax (404) 305-5572.

SUPPLEMENTARY INFORMATION:

History

On March 21, 2008, the Federal Register published a direct final rule with a request for comments (FR 73 15060) establishing Class E airspace at the Village of Homewood Lady Lake Hospital, Lady Lake, FL, Federal Register Docket No. FAA-2008-0072. After publication it was discovered that airspace already existed at Lady Lake, FL. Rendering this docket for airspace action unnecessary. This action withdraws Federal Register Docket No. FAA-2008-0072.

Lists of Subjects in 14 CFR Part 71

Airspace, Incorporation by reference, Navigation (Air).

Withdrawal of Direct Final Rule

Accordingly, pursuant to the authority delegated to me, Docket No. FAA-2008-0072; Airspace Docket No. 08-ASO-03, as published in the Federal Register on March 21, 2008 (73 FR 15060), is hereby withdrawn.

1. The authority citation for part 71 continues to read as follows:

Authority: 49 U.S.C. 106(g); 40103, 40113, 40120; E.O. 10854, 24 FR 9565, 3 CFR, 1959-1963 Comp., p. 389.

Issued in College Park, Georgia, on April 30, 2008.
Mark D. Ward,
Manager, Operations Support Group, Eastern Service Center, Air Traffic Organization.

[FR Doc. E8-12769 Filed 6-11-08; 8:45 am]

BILLING CODE 4910-13-M